DEPARTMENT OF VETERANS AFFAIRS

Solicitation of Nomination for Appointment to the VA Geriatrics and Gerontology Advisory Committee

ACTION: Notice.

SUMMARY: The Department of Veterans Affairs (VA) is seeking nominees to be considered for membership on the VA Geriatrics and Gerontology Advisory Committee (Committee).

SUPPLEMENTARY INFORMATION:

The VA Geriatrics and Gerontology Advisory Committee (Committee) is authorized by statute, title 38 U.S.C. 7315, to: (1) Advise the Secretary on all matters pertaining to geriatrics and gerontology; (2) assess (through an evaluation process that includes a site visit conducted no later than 3 years after its establishment) each new VA Geriatric Research, Education, and Clinical Center (GRECC), on its ability to achieve its established mission; (3) assess the capability of VA to provide high-quality geriatric, extended, and other health care services to eligible Veterans, taking into consideration the likely demand for such services from such Veterans; (4) assess the current and projected needs of eligible Veterans for geriatric, extended care, and other health care services from VA and its activities and plans designed to meet such needs; and (5) perform such additional functions as the Secretary or Under Secretary for Health may direct. The Committee provides, not later than December 1 of each year, an annual report summarizing its activities for the preceding year. The Committee reports to the Secretary through the Under Secretary for Health.

In accordance with the statute, the members of the Committee are non-Federal employees appointed by the Secretary from the general public, and should have demonstrated interest and expertise in research, education, and clinical activities related to aging. Members serve as Special Government Employees. The Committee meets at least once annually. Subgroups of the Committee, consisting of the Chair and at least two other self-selected members and staff, conduct up to a total of five site visits each year to new and existing GRECCs and the VA medical centers that host them. In accordance with Federal Travel Regulations, VA will cover travel expenses—to include per diem—for all members of the Committee, for any travel associated with official Committee duties.

The Secretary appoints each Committee member for a period of up to 4 years. The Secretary may reappoint each member for one additional term. A term of service for any member may not exceed 8 years. Self-nominations and nominations of Veterans and non-Veterans will be accepted. In accordance with OMB guidance, federally-registered lobbyists may not serve on Federal advisory committees in their individual capacity. Additional information regarding this issue can be found at: www.federalregister.gov/articles/2014/08/13/2014-19140/revised-guidance-on-appointment-of-lobbyists-to-federal-advisory-committees-boards-and-commissions.

The Department makes every effort to ensure that the membership of its advisory committees is fairly balanced in terms of points of view represented. The Department also strives for balanced membership regarding regional representation, race/ethnicity representation, professional expertise, war era service, gender, former enlisted or officer status, and branch of service. Other considerations include longevity of military service, ability to handle complex issues, and ability to contribute to the assessment of health care and benefits needs of aging Veterans.

Nomination Package Requirements

Nomination packages must be typed (12 point font) and include: (1) A cover letter from the nominee, and (2) a current resume that is no more than four pages in length. The cover letter must summarize: The nominees' interest in serving on the committee and contributions she/he can make to the work of the committee; expertise in aging-related research, clinical care, and education; the military branch affiliation and timeframe of military service, if any; and any relevant Veterans service activities s/he is currently engaged in. Finally, please include in the cover letter the nominee's complete contact information (name, address, email address, and phone number); and a statement confirming that s/he is not a Federal employee or a Federally-registered lobbyist. The resume should show professional work experience. Any letters of nomination from organizations or other individuals should accompany the package when it is submitted.

Nominations for membership on the Committee must be received by November 30, 2015, no later than 4:00 p.m., Eastern Standard Time. All nomination packages should be sent to: Ms. Marcia Holt-Delaney, Veterans Health Administration (10P4G), Department of Veterans Affairs, 810 Vermont Avenue NW., Washington, DC, 20420.

For additional information, including a copy of the Committee's most recent charter and a list of the current membership, contact Dr. Kenneth Shay, Designated Federal Officer for the Committee, at Kenneth.shay@va.gov or by phone at (734) 222-4325 (Note: This is not a toll-free number.) The nomination package should be submitted to Dr. Shay at the email address above; or faxed to Ms. Holt-Delaney at (202) 461-6769. NOTE: Social Security numbers or military Service Numbers should not be included in the package.

Dated: November 5, 2015.
Rebecca Schiller,
Federal Advisory Committee Management Officer.

[FR Doc. 2015-28542 Filed 11-9-15; 8:45 am]

BILLING CODE 8320-01-P